ENVIRONMENTAL PROTECTION AGENCY

40 CFR Parts 51, 60, 63, 70, 123, 142, 145, 162, 233, 257, 258, 271, 281, 403, 501, 745 and 763

[FRL-6949-6]

RIN 2025-AA10

Public Information: Advanced Notice of Proposed Rulemaking on Electronic Reporting and Recordkeeping and Delayed Effective Date of Recordkeeping Provisions in the Electronic Signatures in Global and National Commerce Act of 2000

AGENCY: Environmental Protection Agency (EPA).

ACTION: Advance notice of proposed rulemaking (ANPRM).

SUMMARY: EPA announces its intent to develop a rule to establish performance standards to assure accuracy, record integrity, and accessibility of electronic reports and records applying generally to all recordkeeping requirements contained in Chapter I of Title 40 of the Code of Federal Regulations. This action delays until June 1, 2001 the effective date of certain provisions in the Electronic Signatures in Global and National Commerce Act of 2000 that may affect certain federal environmental recordkeeping requirements.

DATES: In order to be considered, comments on this ANPRM must be received on or before March 30, 2001. Please direct all correspondence to the addresses shown below.

ADDRESSES: Written comments should be submitted in triplicate to the United States Environmental Protection Agency, Enforcement and Compliance Docket and Information Center (Mail Code 2201A), Docket Number EC-2000-007 (Attn: E-SIGN ANPRM), 1200 Pennsylvania Avenue NW, Washington, DC, 20460. No facsimiles (faxes) will be accepted.

Comments in an electronic format should also reference docket number EC-2000-07, (Attn: E-SIGN ANPRM), and should be addressed to the following Internet address: docket.oeca@epa.gov. Electronic comments must be submitted as an ASCII, WordPerfect 5.1/6.1/8 format file and avoid the use of special characters or any form of encryption.

FOR FURTHER INFORMATION CONTACT: David Schwarz (2823), Office of Environmental Information, U.S. Environmental Protection Agency, 1200 Pennsylvania Avenue NW, Washington, DC 20460, (202) 260-2710, schwarz.david@epa.gov, or Evi Huffer (2823), Office of Environmental Information, U.S. Environmental Protection Agency, 1200 Pennsylvania Avenue NW., Washington, DC, 20460, (202) 260-8791, huffer.evi@epa.gov.

SUPPLEMENTARY INFORMATION: The Electronic Signatures in Global and National Commerce Act of 2000, 15 U.S.C. 7001 to 7031 (hereinafter “E-Sign”), enacted on June 30, 2000, provides that, with respect to any transaction in or affecting interstate commerce, no contract, signature, or record relating to such a transaction shall be denied legal effect solely because it is in electronic form. Similarly, E-Sign provides that such a document may not be denied legal effect solely because an electronic signature or record was used in its formation. Under E-Sign, terms of existing statutes or agency rules containing paper-based requirements that might otherwise deny effect to electronic signatures and records in consumer, commercial or business transactions between two or more parties are superseded. While E-Sign does not generally affect reporting under federal regulations or records of those reports, E-Sign does potentially supersede a requirement that a record be kept on paper if that record is not retained principally for governmental purposes, but is maintained primarily for consumer, commercial or business purposes. E-Sign does, however, preserve the authority of federal and State agencies to set technology-neutral standards and formats for the retention of any such electronic records.

Today, EPA announces its intent to develop rules governing the use of electronic records to satisfy any recordkeeping requirements contained in Chapter I of Title 40 of the Code of Federal Regulations, including any recordkeeping requirements potentially affected by E-Sign. With respect to record retention requirements imposed by federal statute, regulation, or other rule of law, E-Sign takes effect on March 1, 2001 unless a federal regulatory agency has announced, proposed, or initiated, but not completed, rulemaking to establish performance standards to assure accuracy, record integrity, and accessibility of electronic reports and records. If a federal agency announces, proposes, or initiates such a rulemaking on or before March 1, 2001, the effective date of E-Sign is delayed until June 1, 2001, with respect to such records. Today's ANPRM announces EPA's intent to develop a rule applying generally to all recordkeeping requirements contained in Chapter I of Title 40 of the Code of Federal Regulations and, accordingly, to the extent E-Sign affects any such requirement, E-Sign will take effect on June 1, 2001, instead of March 1, 2001.

In order to satisfy the mandates of the Government Paperwork Elimination Act (GPEA) of 1998, public law 105-277, http://ec.fed.gove/gpedoc.htm, EPA is currently developing the Cross-Media Electronic Reporting and Recordkeeping Rule (CROMERRR). This rule would govern the use of electronic records and recordkeeping to satisfy any reporting or recordkeeping requirement contained in Chapter I of Title 40 of the Code of Federal Regulations. EPA may also choose to develop a rule in addition to CROMERRR that would apply to the subset of those recordkeeping requirements that are affected by E-Sign. Such a rule would establish interim performance standards to assure accuracy, record integrity, and accessibility of this smaller universe of electronic records until EPA is able to finalize the CROMERR rule of general applicability. EPA solicits comment on whether it should develop such an interim rule. EPA also solicits comment on what class or classes of records should be subject to any such interim rule.

Dated: February 23, 2001.
Christine Todd Whitman,
Administrator.

[FR Doc. 01-4972 Filed 2-27-01; 8:45 am]

BILLING CODE 6560-50-P